DEPARTMENT OF ENERGY

Federal Energy Regulatory Commission

[Project No. 12611-000]

Verdant Power, Inc.; Notice of Scoping Meetings and Site Visit and Soliciting Scoping Comments

March 1, 2007.

a. Type of Application to be Filed: Original Major License.

b. Project No.: 12611-000.

c. Anticipated Filing Date: September 30, 2007.

d. Submitted By: Verdant Power, Inc.

e. Name of Project: Roosevelt Island Tidal Energy Project.

f. Location: In the East River, in New York, New York. The project would not occupy federal land.

g. Filed Pursuant to: Federal Power Act, 16 U.S.C. 791(a)-825(r).

h. Applicant Contact: Mr. Ron F. Smith, Verdant Power, Inc., 4640 13th Street, North Arlington, VA 22207, (703) 204-3436, rsmith@verdantpower.com.

i. FERC Contact: Tom Dean, (202) 502-6041, or at thomas.dean@ferc.gov.

j. We are asking federal, state, local, and tribal agencies with jurisdiction and/or special expertise with respect to environmental issues to cooperate with us in the preparation of the environmental document. Currently, the U.S. Army Corps of Engineers and the U.S. Environmental Protection Agency have requested cooperating agency status. Other agencies who would like to request cooperating status should follow the instructions for filing comments described in paragraph k below. Cooperating agencies should note the Commission's policy that agencies that cooperate in the preparation of the environmental document cannot also intervene. See, 94 FERC ¶ 61,076 (2001).

k. Deadline for requesting cooperating agency status or filing scoping comments: April 30, 2007.

All documents (original and eight copies) should be filed with: Secretary, Federal Energy Regulatory Commission, 888 First Street, NE., Room 1A, Washington, DC 20426.

Scoping comments and requests for cooperating agency status may be filed electronically via the Internet in lieu of paper. The Commission strongly encourages electronic filings. See 18 CFR 385.2001(a)(1)(iii) and the instructions on the Commission's Web site (http://www.ferc.gov) under the “efiling” link.

l. The proposed project would consist of: (1) Up to 300 5-meter-diameter kinetic hydropower axial flow turbine generator units (about 33 kW each) with a total installed capacity of 10 MW mounted on monopiles; (2) underwater power cables from each unit to a central control room; and (3) appurtenant facilities.

m. A copy of the Scoping Document is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. Copies are also available for inspection and reproduction at the address in paragraph h.

You may also register online at http://www.ferc.gov/docs-filing/esubscription.asp to be notified via e-mail of new filing and issuances related to this or other pending projects. For assistance, contact FERC Online Support.

n. Although our current intent is to prepare an environmental assessment (EA), there is the possibility that an Environmental Impact Statement (EIS) will be required. Nevertheless, this meeting will satisfy the NEPA scoping requirements, irrespective of whether an EA or EIS is issued by the Commission.

Scoping Meetings

Commission staff will hold two scoping meetings in the vicinity of the project at the times and places noted below. The daytime meeting will focus on resource agency, Indian tribes, and non-governmental organization concerns, while the evening meeting is primarily for receiving input from the public. We invite all interested individuals, organizations, and agencies to attend these meetings, to assist staff in identifying particular study needs, as well as the scope of environmental issues to be addressed in the environmental document.

Many environmental issues have already been identified (i.e. potential effects on fish population and movement, diving birds, recreational opportunities), studies to assess those issues have already been developed and some are ongoing. Commission staff are particularly interested in identifying any new issues (those not identified in the Scoping Document), or previously identified issues that are not being addressed. The times and locations of these meetings are as follows:

Evening Scoping Meeting

Date and Time: Wednesday, March 28, 2007, 7 p.m. (EST)

Location: Community Center Building, 8 River Road, Roosevelt Island, NY 10044.

Daytime Scoping Meeting

Date and Time: Thursday, March 29, 2007, 10 a.m. (EST)

Location: Community Center Building, 8 River Road, Roosevelt Island, NY 10044.

The Community Center Building is a low rise separate building located west (towards Manhattan) of Gristedes supermarket set back behind the brick highrise buildings near the west channel.

The Scoping Document, which outlines the subject areas to be addressed in the environmental document, was mailed to the individuals and entities on the Commission's mailing list. Copies of the Scoping Document will be available at the scoping meetings, or may be viewed on the web at http://www.ferc.gov, using the “eLibrary” link. In the event substantive comments are received and revisions are necessary, the Commission will prepare a revised Scoping Document for distribution.

Site Visit

Verdant will conduct a site visit at the project site on Wednesday, March 28, 2007, starting at 2 p.m. All participants should meet at Verdant's control room located in a large beige metal cargo container box along side of the east channel of the East River of the 600 block of Main Street on Roosevelt Island. All participants are responsible for their own transportation.

Scoping Meeting Objectives

At the scoping meetings, staff will: (1) Present a proposed list of issues to be addressed in the EA; (2) identify the proposed studies; (3) solicit from the meeting participants all available information, especially quantifiable data, on the resources at issue; (4) encourage statements from experts and the public on issues that should be analyzed in the EA; (5) determine the resource issues to be addressed in the EA; and (6) identify those issues that require a detailed analysis, as well as those issues that do not require a detailed analysis.

Meeting participants should come prepared to discuss their issues and/or concerns. Please review the Scoping Document in preparation for the scoping meetings.

Scoping Meeting Procedures

The meetings will be recorded by a stenographer and will become part of the formal Commission record on the project.

Magalie R. Salas,
Secretary.

[FR Doc. E7-3996 Filed 3-6-07; 8:45 am]

BILLING CODE 6717-01-P